DEPARTMENT OF THE INTERIOR

Bureau of Land Management

DEPARTMENT OF AGRICULTURE

Forest Service

Notice of Availability of the Final Environmental Impact Statement (FEIS) for the Buckman Water Diversion Project, Santa Fe County, New Mexico

AGENCIES: Bureau of Land Management, Interior and Forest Service, Department of Agriculture.

ACTION: Notice of Availability.

SUMMARY: In accordance with the National Environmental Policy Act of 1969 (NEPA), as amended, (Pub. L. 91-190, 43 U.S.C. 4321 et seq.) the Bureau of Land Management (BLM), Taos Field Office and USDA Forest Service (Forest Service), Santa Fe National Forest, announce the availability of the FEIS for the Buckman Water Diversion Project. The FEIS analyzes the environmental consequences of a proposal to divert water from the Rio Grande.

DATES: The Buckman Water Diversion Project FEIS will be available for review and comment for 30 calendar days starting on the date the Environmental Protection Agency (EPA) publishes the Notice of Availability (NOA) in the Federal Register. The BLM and Forest Service can best utilize your comments and resource information submissions within that 30-day comment period.

ADDRESSES: Comments on the FEIS may be submitted as follows:

1. Electronic comments may be submitted at NM_Comments@nm.blm.gov. Please do not use special characters or attachments, as the BLM e-mail security system may not accept them.

2. Written comments may be mailed or delivered to the BLM at: Buckman Water Diversion Project FEIS, Project Manager, Bureau of Land Management, Taos Field Office, 226 Cruz Alta Rd., Taos, NM 87571.

The BLM will only accept comments on the Buckman Water Diversion Project FEIS if they are submitted using one of the methods described above. To be given consideration, all FEIS comment submittals must include the commenter's name and address. Before including your address, phone number, e-mail address, or other personal identifying information in your comment, you should be aware that your entire comment—including your personal identifying information—may be made publicly available at any time. While you can ask us to withhold your personal identifying information from public review, we cannot guarantee that we will be able to do so. Our practice is to make comments available for public review at the BLM—Taos Field Office during business hours (7:45 a.m. to 4:30 p.m.), Monday through Friday, except for Federal holidays. Copies of the FEIS have been sent to affected Federal, State, and local government agencies, Tribal governments, and interested parties. The document will be available electronically at the following Web site: http://www.blm.gov/nm.

Copies of the FEIS will also be available at the following locations:

• Bureau of Land Management, New Mexico State Office, 1474 Rodeo Road, Santa Fe, NM 87505.

• Bureau of Land Management, Taos Field Office, 226 Cruz Alta Rd., Taos, NM 87571.

• Forest Service, Santa Fe National Forest, 1474 Rodeo Road, Santa Fe, NM 87505.

• Forest Service, Espanola Ranger District, 1710 North Riverside Dr., Espanola, NM 87533.

• City of Santa Fe, Sangre de Cristo Water Division, 801 West San Mateo, Santa Fe, NM 87504.

• Santa Fe County, Utilities Department, 205 Montezuma Ave., Santa Fe, NM 87501.

• USDI Bureau of Reclamation, 555 Broadway Ave. Albuquerque NM 87102.

FOR FURTHER INFORMATION CONTACT: Ms. Sher Churchill, Bureau of Land Management, Planning and Environmental Coordinator, Taos Field Office, 226 Cruz Alta Rd., Taos, NM 87571 or Mr. Sanford Hurlocker, Forest Service, District Ranger, Espanola Ranger District, P.O. Box 3307, Espanola, NM 87533. Ms. Churchill and Mr. Hurlocker can be reached by telephone at 505.751.4725 and 505.753.7331, respectively. Requests for information may be submitted electronically at http://www.blm.gov/nm.

SUPPLEMENTARY INFORMATION: The project area is located northwest of Santa Fe, New Mexico. If authorized, the project would be predominantly located on public lands administered by the Bureau of Land Management and the Forest Service; a relatively small portion of the project facilities would be located on private lands and Bureau of Land Management lands leased to the City of Santa Fe. The Forest Service and Bureau of Land Management are joint lead agencies for this project; the Department of Interior Bureau of Reclamation (contributing funds), City of Santa Fe, and Santa Fe County are cooperating agencies. The City of Santa Fe, Santa Fe County, and Las Companas Limited Partnership are the “Project Applicants.” The proposed Buckman Water Diversion Project is designed to address the immediate need for a sustainable means of accessing water supplies for the Project Applicants. Most of the water would be derived from the San Juan-Chama Project, a U.S. Bureau of Reclamation inter-basin transfer project. The remainder would be “native” water rights owned by the Project Applicants, and diverted from the Rio Grande. The Project Applicants propose to construct and operate a surface water diversion facility at the Rio Grande near the western terminus of Buckman Road located within the Santa Fe National Forest, near the existing Buckman Well Field. The water would be pumped to the Santa Fe vicinity, where it would serve municipal and community water supply customers. The Buckman Water Diversion is proposed to be constructed with the capacity necessary to meet the near-term need for water, based on physical, technical, and environmental limitations. The proposed project has an independent use from the long-term water management strategy being undertaken by the City and the County.

On July 22, 2002, the BLM and Forest Service published a Notice of Intent to prepare an EIS for the Buckman Water Diversion Project in the Federal Register. Scoping meetings were held in August and September 2002. Issues and concerns identified during scoping and throughout the NEPA process were addressed in the Draft EIS. On December 17, 2004, the BLM and Forest Service published the Notice of Availability of the Draft EIS for this project in the Federal Register. The 60-day comment period ended on February 14, 2005. Thirteen (13) comments were received from individuals, organizations, and agencies. Specific comment responses are provided in the FEIS, and issues and concerns raised during the review and prior to completion of the FEIS are addressed in the FEIS.

The Buckman Water Diversion Project FEIS provides detailed analyses of the No Action Alternative, the Proposed Action, and several alternatives. The No Action Alternative would result in the agencies not authorizing permits for the construction and operation of a water diversion and associated infrastructure. The Proposed Action includes a diversion structure at the Rio Grande; water transmission facilities, including pumps and booster station buildings, water tanks, settling ponds and pipes; water treatment facilities; electric power improvements; and road improvements necessary to build and operate the facilities. While analyzing the Proposed Action, it was determined that there were alternatives for different infrastructure, and the effects of these alternatives were analyzed for possible inclusion in a composite preferred alternative. Therefore, three sediment facility alternatives, two raw water pipeline alternatives, three treated water pipeline alternatives, and two power upgrade alternatives were analyzed in detail. The FEIS discloses details of these infrastructural alternatives and the environmental consequences of implementing them.

The BLM's and Forest Service's Preferred Alternative is to authorize rights-of-way and easements to the Applicants so that they may construct, operate, and maintain the road improvements and major facilities and their locations as described in the Proposed Action, plus one of the alternatives for each of the following: the sediment facility, the raw water pipeline, the treated water pipeline, and the power upgrade facility. The Preferred Alternative also includes mitigation and monitoring requirements to protect resources. The Preferred Alternative will avoid disturbance to the historic Buckman town site, minimize visual impacts on viewers from White Rock Overlook and along Buckman Road, and avoid creating new utility corridors. The alternatives, including the agencies' Preferred Alternative, conform to existing laws and regulations, and provide for resource protection.

In compliance with Section 7(c) of the Endangered Species Act, as amended, the FEIS includes a biological assessment for the purpose of identifying endangered or threatened species, which may be affected by the Preferred Alternative. A Biological Opinion is forthcoming and will be included in the formulation of the final decision.

Dated: March 12, 2007.
Sam Des Georges,
BLM-Taos Field Office Manager.
Daniel J. Jiron,
Santa Fe National Forest, Forest Supervisor.

[FR Doc. 07-2303 Filed 5-9-07; 8:45 am]

BILLING CODE 4310-FB-P